ENVIRONMENTAL PROTECTION AGENCY

40 CFR Part 81

[CO-001-0058a, CO-001-0059a; FRL-6989-3]

Approval and Promulgation of Air Quality Implementation Plans; Colorado; Designation of Areas for Air Quality Planning Purposes, Telluride and Pagosa Springs

Correction

In rule document 01-15029 beginning on page 32556 in the issue of Friday, June 15, 2001, make the following corrections:

§81.306 [Corrected]

1. On page 32563, in §81.306, in the first column of the table, under “San Miguel County: Telluride”, in the first paragraph, the first sentence, “The Telluride attainment/maintenance area begins 28 at the intersection ofColorado State Highway 145 and the Telluride service area boundary, existed in 1991.” should read “The Telluride attainment/maintenance area begins at the intersection of Colorado State Highway 145 and the Telluride service area boundary, as it existed in 1991. ”.

2. On the same page, in the same section, in the same table column, in the same paragraph, in the fourth line, remove the numeral “2” between “the” and “nonattainment”.

[FR Doc. C1-15029 Filed 6-29-01; 8:45 am]

BILLING CODE 1505-01-D

DEPARTMENT OF LABOR

Pension and Welfare Benefits Administration

29 CFR Part 2520

RIN 1210-AA69; 1210-AA55

Amendments to Summary Plan Description Regulations

Correction

In rule document 00-29765 beginning on page 70226 in the issue of Tuesday, November 21, 2000 make the following corrections

§2520.102 [Corrected]

1. On page 70241, in the second column, in §2520.102-3(d), in the second line, “i.e. for pension plans-” should read “e.g. ”.

2. On the same page, in the third column, in §2520.102-3(j)(3), in the fifth line, “a description of any cost sharing provisions” should read “a description of: any cost sharing provisions”.

§2520.104b-3 [Corrected]

3. On page 70244, in the third column, in §2520.104b-3(d)(3)(ii), in the sixteenth line, “new conditions or requirements (i.e.,” should read “new conditions or requirements (e.g.,”.

[FR Doc. C0-29765 Filed 6-29-01; 8:45 am]

BILLING CODE 1505-01-D